DEPARTMENT OF HEALTH AND HUMAN SERVICES

National Institutes of Health

Proposed Collection; Comment Request; National Institutes of Health Undergraduate Scholarship Program for Individuals From Disadvantaged Backgrounds

SUMMARY: In compliance with the requirement of section 3506(c)(2)(A) of the Paperwork Reduction Act of 1995, for opportunity for public comment on proposed data collection projects, the Office of Loan Repayment and Scholarship (OLRS), the National Institutes of Health (NIH), will publish periodic summaries of proposed projects to be submitted to the Office of Management and Budget (OMB) for review and approval.

Proposed Collection: Title: NATIONAL Institutes of Health Undergraduate Scholarship Program for Individuals from disadvantaged Backgrounds. Type of Information Collection Request: REVISION. Form Numbers: NIH 2762-1, NIH 2762-2, NIH 2762-3, NIH 2762-4, and NIH 2762-5. Need and Use of Information Collection: The NIH Undergraduate Scholarship Program for Individuals from Disadvantaged Backgrounds (UGSP) requires participants to maintain enrollment in an undergraduate degree program and to begin service payback through employment at the NIH within 60 days of their graduation. This information collection certifies that scholars are continuing their undergraduate program and provides those who have graduated the opportunity to request a deferment of their service payback obligation if they are enrolled in an approved graduate or medical degree program. Frequency of response: Annual. Affected public: Individuals and Academic Institutions. Types of Respondents: Participants in the UGSP and Academic Institutions (undergraduate, graduate, and medical schools). The annual reporting burden is as follows: Estimated Number of Respondents: 80; Estimated Number of Responses per Respondent: 1; Average Burden Hours per Response: 0.75; and Estimated Total Annual Burden Hours Requested: 60. The annualized cost to respondents is estimated at $0. There are no Capital Costs to report. There are no Operating Costs or Maintenance Costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Marc S. Horowitz, J.D., Director, Office of Loan Repayment and Scholarship, NIH, 2 Center Drive, Room 2E28, MSC 0230, Bethesda, MD 20892-0230, or call toll-free 1-800-528-7689, or E-mail your request, including your address to: MHorowitz@nih.gov.

Comments Due Date: Comments regarding this information collection are best assured of having their full effect if received on or before April 30, 2001.

Dated: February 16, 2001.
Yvonne T. Maddox,
Acting Deputy Director, NIH.

[FR Doc. 01-4777 Filed 2-26-01; 8:45 am]

BILLING CODE 4140-01-M